DEPARTMENT OF TRANSPORTATION

Federal Aviation Administration

Notice of Intent To Rule on Application 03-05-C-00-MBS To Impose and Use the Revenue From a Passenger Facility Charge (PFC) at MBS International Airport, Saginaw, Michigan

AGENCY: Federal Aviation Administration (FAA), DOT.

ACTION: Notice of Intent to Rule on Application.

SUMMARY: The FAA proposes to rule and invites pubic comment on the application to impose and use the revenue from a PFC at MBS International Airport under the provisions of the 49 U.S.C. 40117 and part 158 of the Federal Aviation Regulations (14 CFR part 158).

DATES: Comments must be received on or before October 20, 2003.

ADDRESSES: Comments on this application may be mailed or delivered in triplicate to the FAA at the following address: Detroit Airports District Office, 11677 South Wayne Road—Suite 107, Romulus, Michigan 48174.

In addition, one copy of any comments submitted to the FAA must be mailed or delivered to Ms. Elizabeth E. Owen, Airport Manager of the MBS International Airport at the following address: 8500 Garfield Road—Suite 101, Freeland, Michigan 48623.

Air carriers and foreign air carriers may submit copies of written comments previously provided to the MBS International Airport Commission under section 158.23 of part 158.

FOR FURTHER INFORMATION CONTACT: Mr. Jason Watt, Program manager, Detroit Airports District Office, 11677 South Wayne Road—Suite 107, Romulus, Michigan 48174, (734) 229-2906. The application may be reviewed in person at this same location.

SUPPLEMENTARY INFORMATION: The FAA proposes to rule and invites public comment on the application to impose and use the revenue from a PFC at MBS International Airport under the provisions of the 49 U.S.C. 40117 and part 158 of the Federal Aviation Regulations (14 CFR part 158).

On August 26, 2003 the FAA determined that the application to impose and use the revenue from a PFC submitted by MBS International Airport Commission was substantially complete within the requirements of section 158.25 of part 158. The FAA will approve or disapprove the application, in whole or in part, no later than November 25, 2003.

The following is a brief overview of the application.

Proposed charge effective date: June 1, 2008.

Proposed charge expiration date: April 1, 2010.

Level of the proposed PFC: $3.00.

Total estimated PFC revenue: $1,378,794.

Brief description of proposed projects: Furnish and install regional jet bridge; reimbursement of charges for PFC application preparation (PFC number 01-04-C-00-MBS); reimbursement of charges for audits performed on the PFC program at MBS International Airport; land acquisition (southwest approach, Law property); security fingerprint machine procurement (sponsor portion); airport rescue and fire fighting vehicle procurement; snow removal equipment procurement; runway friction braking vehicle procurement. Class or classes of air carriers, which the public agency has requested, not be required to collect PFCs: Part 135, air taxi/commercial operators filing FAA Form 1800-31. Any person may inspect the application in person at the FAA office listed above under FOR FURTHER INFORMATION CONTACT. In addition, any person may, upon request, inspect the application, notice and other documents germane to the application in person at the MBS International Airport Commission.

Issued in Des Plaines, Illinois on September 4, 2003.
Barbara J. Jordan,
Acting Manager, Planning and Programming Branch, Great Lakes Region.

[FR Doc. 03-23872 Filed 9-17-03; 8:45 am]

BILLING CODE 4910-13-M